DEPARTMENT OF TRANSPORTATION

National Highway Traffic Safety Administration

[Docket No. DOT-NHTSA-2019-0025]

Agency Information Collection Activities; Submission to the Office of Management and Budget for Review and Approval; Request for Comment; National Emergency Medical Services Information System (NEMSIS)

AGENCY: National Highway Traffic Safety Administration (NHTSA), Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on February 1, 2019. One comment was received during the 60-day comment period. The comment was submitted by a national EMS organization and was supportive of the National Emergency Medical Services Information System and NHTSA's continued collection of emergency medical services data from U.S. States and Territories.

DATES: Comments must be submitted on or before September 30, 2019.

ADDRESSES: Send comments regarding the burden estimate, including suggestions for reducing the burden, to the Office of Management and Budget, Attention: Desk Officer for NHTSA, 725 17th Street NW, Washington, DC 20503.

FOR FURTHER INFORMATION CONTACT: For additional information or access to background documents, contact Eric Chaney, Office of Emergency Medical Services (NPD-400), Room W44-318, 1200 New Jersey Avenue SE, Washington, DC 20590. Mr. Chaney's telephone number is (202) 366-0257. Please identify the relevant collection of information by referring to its OMB Control Number.

SUPPLEMENTARY INFORMATION:

Title: National Emergency Medical Services Information System (NEMSIS)—State Submission to National EMS Database.

OMB Control Number: 2127-0717.

Type of Request: Collection of Emergency Medical Services Data.

Type of Review Requested: Regular.

Abstract: The U.S. Department of Transportation, National Highway Traffic Safety Administration (NHTSA) was established by Congress to save lives, prevent injuries, and reduce economic costs due to motor vehicle crashes through education, research, safety standards, and enforcement activity. Within NHTSA, the Office of Emergency Medical Services is responsible for advancing a national vision for emergency medical services (EMS) through the development and implementation of targeted projects to benefit patient care, EMS practitioner safety and support of EMS research. The NHTSA Office of EMS also coordinates with the Federal and state highway safety community to ensure that EMS is equipped and prepared to carry out its mission of preventing death and reducing serious injuries after traffic crashes. NHTSA is proposing to continue voluntary collection of limited EMS information from U.S. States and Territories. There are no Federal mandates or requirements for submission of EMS information from U.S. States and Territories. The information is transmitted from local EMS agencies to State EMS data systems, and then onto NHTSA's National EMS Database via an automated “machine-to-machine” process that uses Web Services. The information is transmitted from the point-of-care to states and NHTSA's National EMS Database in near real-time. The information collected by the National EMS Database is a de-identified subset of the data already being collected for use by state and territorial EMS Offices. The National EMS Database collects information that describes EMS agencies, the activation and response of individual EMS units to an emergency, emergency care provided on scene and during transport to a health facility, transport decision, disposition of the patient and incident, and EMS system times such as response time. Personal identifiable information (PII) such as the patient's name, patient's home address, patient's date of birth, patient's social security number, and patient's medical record number are not collected by the National EMS Database. The information collected by the National EMS Database is available to the public. The National EMS Database provides NHTSA's Office of EMS with information necessary to inform national EMS and first responder programs, projects, and initiatives; and determine the impact EMS has on highway safety and post-crash care. The information is also used by EMS and public health researchers to develop evidence for best practices in EMS operations and prehospital clinical care, and by local EMS agencies and state offices of EMS for performance improvement and benchmarking.

Affected Public: State Governments.

Estimated Number of Respondents: 56.

Respondents include one representative from each State, populated Territory and the District of Columbia.

Frequency: Annually.

Number of Responses: N/A.

Estimated Individual Burden: 18 hours.

The Individual Burden for each of the 56 respondents is 18 hours per year. It is estimated that each respondent will spend an additional 1.5 hours per month ensuring a subset of data from the existing State Dataset is transmitted to the National Dataset.

Estimated Total Annual Burden Hours: 1,008.

Total burden hours are estimated based upon ongoing electronic submissions from each respondent, with machine to machine transmittal. NHTSA estimates that this information collection will involve 56 respondents spending approximately 18 hours providing information for NEMSIS. Therefore, the total annual burden estimate is 1,008 hours.

Estimated Total Annual Burden Cost: $50,954.

NHTSA estimated the total annual burden cost using the total average compensation costs for State, Territorial and local government workers of $50.55 per hour as reported by the Bureau of Labor Statistics in December 2018. Therefore, the total cost associated with the 1,008 burden hours is $50,954. There are no additional anticipated costs to respondents or record keepers, beyond what they have already set up to meet their own State needs for this information.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995, 44 U.S.C. Chapter 35; and delegation of authority at 49 CFR 1.95 and 501.8.

Jon Krohmer,
Acting Associate Administrator, Research and Program Development, National Highway Traffic Safety Administration.

[FR Doc. 2019-18781 Filed 8-29-19; 8:45 am]

BILLING CODE 4910-59-P